DEPARTMENT OF AGRICULTURE

Rural Housing Service

Section 538 Guaranteed Rural Rental Housing Program 2015 Industry Forums—Open Teleconference and/or Web Conference Meetings

AGENCY: Rural Housing Service, USDA.

ACTION: Notice.

SUMMARY: This Notice announces a series of teleconference and/or web conference meetings regarding the U.S. Department of Agriculture (USDA) Section 538 Guaranteed Rural Rental Housing (GRRH) program, which are scheduled to occur during 2015 and 2016. This Notice also outlines suggested discussion topics for the meetings and is intended to notify the general public of their opportunity to participate in the teleconference and/or web conference meetings.

DATES: The dates and times for the teleconference and/or web conference meetings will be announced via email to parties registered as described below.

FOR FURTHER INFORMATION CONTACT: Any member of the public wishing to register for the calls and obtain the call-in number, access code, web link and other information for any of the public teleconference and/or web conference meetings may contact Monica Cole, Financial and Loan Analyst, at (202) 720-1251, fax: (202) 205-5066, or email: monica.cole@wdc.usda.gov. Those who request registration less than 15 calendar days prior to the date of a teleconference and/or web conference meetings may not receive notice of that teleconference and/or web conference meeting, but will receive notice of future teleconference and/or web conference meetings. The Agency expects to accommodate each participant's preferred form of participation by telephone or via web link. However, if it appears that existing capabilities may prevent the Agency from accommodating all requests for one form of participation, each participant will be notified and encouraged to consider an alternative form of participation. Individuals who plan to participate and need reasonable accommodations or language translation assistance should inform Monica Cole within 10 business days in advance of the meeting date.

SUPPLEMENTARY INFORMATION: The objectives of this series of teleconferences are as follows:

• Enhance the effectiveness of the Section 538 GRRH program.

• Update industry participants and Rural Housing Service (RHS) staff on developments involving the Section 538 GRRH program.

• Enhance RHS' awareness of the market and other forces that impact the Section 538 GRRH program.

Topics to be discussed could include, but will not be limited to, the following:

• Updates on USDA's Section 538 GRRH program activities.

• Perspectives on the current state of debt financing and its impact on the Section 538 GRRH program.

• Enhancing the use of Section 538 GRRH program financing with the transfer and/or preservation of section 515 developments.

• The impact of the Low Income Housing Tax Credits program changes on Section 538 GRRH program financing.

USDA prohibits discrimination against its customers, employees, and applicants for employment on the bases of race, color, national origin, age, disability, sex, gender identity, religion, reprisal and where applicable, political beliefs, marital status, familial or parental status, sexual orientation, or all or part of an individual's income is derived from any public assistance program or protected genetic information in employment or any program activity conducted or funded by the Department. (Not all prohibited bases apply to all programs and/or employment activities.)

Individuals who are deaf, hard of hearing or have speech disabilities and you wish to file either an EEO or program complaint, please contact USDA through the Federal Relay Service at (800) 877-8339 or (800) 845-6136 (in Spanish). Persons with disabilities, who wish to file a program complaint, please see information below on how to contact us by mail directly or by email. Persons with disabilities who require alternative means of communication for program information (e.g., Braille, large print, audiotape, etc.) should contact USDA's TARGET Center at (202) 720-2600 (voice and TDD). If you wish to file a Civil Rights program complaint of discrimination, complete the USDA Program Complaint Form, found online at http://www.ascr.usda.gov/complaint_filing_cust.html, or at any USDA office, or call (866) 632-9992 to request a form. You may also write a letter containing all of the information requested on the form. Send your completed complaint form or letter to us by mail at to USDA, Director, Office of Adjudication, 1400 Independence Avenue SW., Washington, DC 20250-9410, by fax (202) 690-7442 or email at program.intake@usda.gov. “USDA is an equal opportunity provider, employer, and lender.”

Dated: May 4, 2015.
Tony Hernandez,
Administrator, Rural Housing Service.

[FR Doc. 2015-11416 Filed 5-11-15; 8:45 am]

BILLING CODE 3410-XV-P